DEPARTMENT OF THE INTERIOR

National Park Service

Native American Graves Protection and Repatriation Review Committee Nomination Solicitation; Correction

AGENCY: National Park Service, Interior.

ACTION: Notice; correction.

The National Park Service published a document in the Federal Register of April 12, 2002, concerning the solicitation of nominations for the Native American Graves Protection and Repatriation Review Committee. The document contained an incorrect date.

In the Federal Register of April 12, 2002, in FR Doc. 02-8575, on page 18034, in the first column, in the last line of the DATES section, correct the date “May 13, 2002” to read “July 11, 2002”.

Dated: April 17, 2002.
Robert Stearns,
Manager, National NAGPRA Program.

[FR Doc. 02-11136 Filed 5-3-02; 8:45 am]

BILLING CODE 4310-70-S